DEPARTMENT OF DEFENSE

Department of the Army

Performance Review Board Membership

AGENCY: Department of the Army, DoD.

ACTION: Notice.

SUMMARY: Notice is given of the names of members of a Performance Review Board for the Department of the Army.

DATES: Effective Date: November 20, 2015.

FOR FURTHER INFORMATION CONTACT: Barbara Smith, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Lisha Adams, Executive Deputy to the Commanding General, United States Army Materiel Command.

2. LTG Thomas P. Bostick, Commanding General, United States Army Corps of Engineers.

3. Mr. Gabriel Camarillo, Principal Deputy Assistant Secretary of the Army for Acquisition, Policy and Logistics, Office of the Assistant Secretary of the Army (Acquisition, Logistics, and Technology).

4. Ms. Gwendolyn R. DeFilippi, Director, Civilian Senior Leader Management Office, Office of the Assistant Secretary of the Army (Manpower and Reserve Affairs).

5. Ms. Sue A. Engelhardt, Director of Human Resources, United States Army Corps of Engineers.

6. Mr. Randall Exley, The Auditor General, Auditor General Office.

7. Mr. Kevin M. Fahey, Executive Director for Agile Acquisition, Office of the Assistant Secretary of the Army (Acquisition, Logistics and Technology).

8. Mr. Patrick K. Hallinan, Executive Director of the Army National Cemeteries Program, Dept of the Army.

9. Ms. Ellen M. Helmerson, Deputy Chief of Staff, G-8, United States Army Training and Doctrine Command.

10. Mr. David Jimenez, Executive Technical Director/Deputy to the Commander, United States Army Test and Evaluation Command.

11. MG Daniel I. Karbler, Commanding General, United States Army Test and Evaluation Command.

12. LTG Mary A. Legere, Deputy Chief of Staff, G-2, Office of the Deputy Chief of Staff, G-2.

13. Mr. Mark R. Lewis, Deputy Chief Management Officer, Office of the Under Secretary of the Army.

14. LTG Kevin W. Mangum, Deputy Commanding General/Chief of Staff, U.S. Army Training and Doctrine Command.

15. Mr. David Markowitz, Assistant Deputy Chief of Staff for Operations, G-3/5/7, Office of the Deputy Chief of Staff, G-3/5/7.

16. Ms. Kathleen S. Miller, Assistant Deputy Chief of Staff, G-4, Office of the Deputy Chief of Staff, G-4.

17. Mr. William Moore, Deputy Chief of Staff, G-1/8 (Personnel and Logistics), United Stated Army Training and Doctrine Command.

18. Mr. Levator Norsworthy Jr., Deputy General Counsel(Acquisition)/Senior Deputy General Counsel, Office of the General Counsel.

19. Mr. Gerald B. O'Keefe, Administrative Assistant to the Secretary of the Army, Office of the Administrative Assistant to the Secretary of the Army.

20. Mr Philip R. Park, Acting General Counsel, Office of the General Counsel.

21. Ms. Diane M. Randon, Deputy Assistant Chief of Staff for Installation Management, Office of the Assistant Chief of Staff for Installation Management.

22. Mr. Jeffrey N. Rapp, Assistant Deputy Chief of Staff, G-2 Office of the Deputy Chief of Staff, G-2.

23. Mr. J. Randall Robinson, Principal Deputy to the Assistant Secretary of the Army (Installations, Energy and Environment), Office of the Assistant Secretary of the Army (Installations and Environment).

24. Mr. Craig R. Schmauder, Deputy General Counsel (Installation, Environment and Civil Works), Office of the General Counsel.

25. Mr. Karl F. Schneider, Principal Deputy Assistant Secretary of the Army (Manpower and Reserve Affairs), Office of the Assistant Secretary of the Army (Manpower and Reserve Affairs).

26. Honorable Heidi Shyu, Assistant Secretary of the Army (Acquisition, Logistics and Technology), Office of the Assistant Secretary of the Army (Acquisition, Logistics and Technology).

27. Ms. Caral Spangler, Principal Deputy Assistant Secretary of the Army (Financial Management and Comptroller).

28. MG Richard L. Stevens, Deputy Chief of Engineers/Deputy Commanding General, United States Army Corps of Engineers.

29. Mr. Lawrence Stubblefield, Deputy Assistant Secretary of the Army (Diversity and Leadership), Office of the Assistant Secretary of the Army (Manpower and Reserve Affairs).

30. Mr. Donald C. Tison, Assistant Deputy Chief of Staff for Programs, G-8, Office of the Deputy Chief of Staff, G-8.

31. GEN Dennis L. Via, Commanding General, United States Army Materiel Command.

32. Honorable Debra S. Wada, Assistant Secretary of the Army (Manpower and Reserve Affairs), Office of the Assistant Secretary of the Army (Manpower and Reserve Affairs).

33. LTG Michael E. Williamson, Deputy Assistant Secretary of the Army (Acquisition, Logistics and Technology), Office of the Assistant Secretary of the Army (Acquisition, Logistics and Technology).

34. LTG Larry Wyche, Deputy Commanding General, United States Army Material Command.

35. MG Mark W. Yenter, Deputy Commanding General for Military and International Operations, United States Army Corps of Engineers.

Brenda S. Bowen,
Army Federal Register Liaison Officer.

[FR Doc. 2015-27235 Filed 10-26-15; 8:45 am]

BILLING CODE 3710-08-P